DEPARTMENT OF THE INTERIOR

National Park Service

60-Day Notice of Intention To Request Clearance of Collection Information; Opportunity for the Public To Comment

AGENCY: National Park Service, The Department of Interior.

ACTION: Notice and request for comments.

SUMMARY: In accordance with the Paperwork Reduction Act of 1995, the notice announces the National Park Service (NPS) intention to request approval of information collection associated with a voluntary backcountry registration system to be administered by Kenai Fjords National Park.

DATES: Public comments on this notice will be accepted on or before June 2, 2000 to be assured of consideration.

SEND COMMENTS TO: Michael D. Tetreau, Resource Management Specialist, Kenai Fjords National Park, P.O. Box 1727, Seward, AK 99664.

All responses to this notice will be summarized and included in the request for OMB approval. All comments will also become a matter of public record. Copies of the information collection can be obtained from Michael D. Tetreau, Resource Management Specialist, Kenai Fjords National Park, P.O. Box 1727, Seward, AK 99664.

FOR FURTHER INFORMATION CONTACT: Michael D. Tetreau, (907) 224-3175.

SUPPLEMENTARY INFORMATION: Title: Voluntary Coastal Backcountry Registration.

OMB Number: Requested.

Expiration Date of Approval: Requested.

Type of Request: New collection.

Abstract: Kenai Fjords National Park is in the process of developing a backcountry management plan and the collection of accurate visitor use information is necessary in order to formulate appropriate management strategies. The proposed voluntary registration system will also improve information dissemination to visitors prior to their trip to the fjords, thus reducing their impacts to park resources and the chances of their needing rescue or other assistance from park personnel. In addition, the information being collected will make any emergency response more efficient.

Respondents: Individuals.

Estimated Annual Burden on Respondents: 25 hours.

Estimated average burden hours per response: 0.25 hours.

Estimated average number of respondents: 100 annually.

Estimated frequency of response: 100 annually.

Leonard E. Stowe,
Information Collection Clearance Officer National Park Service, WAPC.

[FR Doc. 00-8046 Filed 3-31-00; 8:45 am]

BILLING CODE 4310-70-M